DEPARTMENT OF AGRICULTURE

Forest Service

Lake County Resource Advisory Committee; Meeting

AGENCY: Forest Service, USDA.

ACTION: Notice of meeting.

SUMMARY: The Lake County Resource Advisory Committee (RAC) will hold a meeting.

DATES: The meeting will be held on May 14, 2009, from 3 p.m. to 5 p.m.

ADDRESSES: The meeting will beheld at the Lake County Board of Supervisor's Chambers at 255 North Forbes Street, Lakeport or Conference Room C.

FOR FURTHER INFORMATION CONTACT: Debbie McIntosh, Committee Coordinator, USDA, Mendocino National Forest, Upper Lake Ranger District, 10025 Elk Mountain Road, Upper Lake, CA 95485. (707) 275-2361. E-mail dmcintosh@fs.fed.us.

SUPPLEMENTARY INFORMATION: Agenda items to be covered include: (1) Roll Call/Establish Quorum; (2) Review Minutes from the March 19, 2009 Meeting; (3) Project up-dates from Project Supporters; (4) Project Review and Discussion; (5) Recommend Projects/Vote; (6) Discuss Project Cost Accounting USFS/County of Lake; (7) Set Next Meeting Date; (8) Public Comment Period. Public input opportunity will be provided and individuals will have the opportunity to address the Committee at that time; (9) Adjourn.

Dated: March 25, 2009.
Lee D. Johnson,
Designated Federal Officer.

[FR Doc. E9-7374 Filed 4-1-09; 8:45 am]

BILLING CODE 3410-11-M